INTERNATIONAL TRADE COMMISSION

[Investigation No. 337-TA-1398]

Certain Smart Wearable Devices, Systems, and Components Thereof; Notice of Institution of Investigation

AGENCY: U.S. International Trade Commission.

ACTION: Notice.

SUMMARY: Notice is hereby given that a complaint was filed with the U.S. International Trade Commission on March 13, 2024, under section 337 of the Tariff Act of 1930, as amended, on behalf of Ouraring, Inc. of San Francisco, California, and Ōura Health Oy of Finland. An amended confidential exhibit was filed on March 21, 2024, and an amended complaint was filed on March 22, 2024. The complaint, as amended, alleges violations of section 337 based upon the importation into the United States, the sale for importation, and the sale within the United States after importation of certain smart wearable devices, systems, and components thereof by reason of the infringement of certain claims of U.S. Patent No. 11,868,178 (“the '178 patent”); U.S. Patent No. 11,868,179 (“the '179 patent”); and U.S. Patent No. 10,842,429 (“the '429 patent”). The amended complaint further alleges that an industry in the United States exists as required by the applicable Federal Statute. The complainant requests that the Commission institute an investigation and, after the investigation, issue a limited exclusion order and cease and desist orders.

ADDRESSES: The complaint (as amended), except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint (as amended), the U.S. International Trade Commission, on April 12, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, 6-10, 12-14, 17, and 18 of the '178 patent; claims 1, 3-5, 9, 10, and 13-16 of the '179 patent; and claims 1, 3-6, and 8-11 of the '429 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “smart ring wearable devices, systems, and components thereof”;

(3) Pursuant to Commission Rule 210.50(b)(1), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. 1337(d)(1), (f)(1), (g)(1);

(4) For the purpose of the investigation so instituted, the following are hereby named as parties upon which this notice of investigation shall be served:

(a) The complainants are:

Ouraring, Inc., 222 Kearny Street, San Francisco, CA 94108, Ōura Health Oy, Elektroniikkatie 10, 90590 Oulu, Finland

(b) The respondents are the following entities alleged to be in violation of section 337, and are the parties upon which the complaint (as amended) is to be served:

Ultrahuman Healthcare Pvt. Ltd., No. 4088/799, Third Floor, V K Paradise Sector-2, Bengaluru, Karnataka 560102, India

Ultrahuman Healthcare SP LLC, 4th Floor, Etihad Airways Center, Al Raha, Al Muneera, Abu Dhabi, UAE

Ultrahuman Healthcare Ltd., 5 New Street Square, London, United Kingdom

Guangdong Jiu Zhi Technology, Co. Ltd., Room 411-18, Floor 4, Building C, Innovation Center Plant, No. 34, XiangShan Avenue, Cuiheng New District, Zhongshan City, Guangdong 528437 China

RingConn LLC, 1226 North King St., Wilmington, DE 19801

Circular SAS, 78 Avenues des Champs-Elysées, Bureau 326, 75008 Paris, France

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: April 12, 2024.
Lisa Barton,
Secretary to the Commission.

[FR Doc. 2024-08198 Filed 4-16-24; 8:45 am]

BILLING CODE 7020-02-P